DEPARTMENT OF COMMERCE

National Oceanic and Atmospheric Administration

RIN 0648-XG966

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Scientific and Statistical Committee (SSC) will hold a meeting.

DATES: The meeting will be held on Tuesday, May 7, 2019, from 10 a.m. through 5 p.m. and on Wednesday, May 8, 2019, from 8:30 a.m. to 12 noon. See SUPPLEMENTARY INFORMATION for agenda details.

ADDRESSES: The meeting will take place at the Royal Sonesta Harbor Place, 550 Light Street, Baltimore, MD 21202; telephone: (410) 234-0550.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: The purpose of this meeting is to review the most recent survey and fishery data and the previously recommended 2020 acceptable biological catch (ABC) for Atlantic mackerel, butterfish, longfin squid, Illex squid, Atlantic surfclam and ocean quahog. The SSC will review and provide feedback on the development of the Council's 2020-24 Strategic Plan. The SSC will also review and approve guidelines for how the SSC selects an appropriate coefficient of variation (CV) for the overfishing limit (OFL) in its ABC-setting process. In addition, the SSC may take up any other business as necessary.

A detailed agenda and background documents will be made available on the Council's website (www.mafmc.org) prior to the meeting.

Special Accommodations

These meetings are physically accessible to people with disabilities. Requests for sign language interpretation or other auxiliary aid should be directed to M. Jan Saunders, (302) 526-5251, at least 5 days prior to the meeting date.

Dated: April 10, 2019.
Rey Israel Marquez,
Acting Deputy Director, Office of Sustainable Fisheries, National Marine Fisheries Service.

[FR Doc. 2019-07449 Filed 4-12-19; 8:45 am]

BILLING CODE 3510-22-P